DEPARTMENT OF COMMERCE

Foreign-Trade Zones Board

[Docket 1-2012]

Foreign-Trade Zone 100—Dayton, OH; Application for Reorganization under Alternative Site Framework

An application has been submitted to the Foreign-Trade Zones (FTZ) Board (the Board) by the Greater Dayton Foreign-Trade Zone, Inc., grantee of FTZ 100, requesting authority to reorganize the zone under the alternative site framework (ASF) adopted by the Board (74 FR 1170, 1/12/09 (correction 74 FR 3987, 1/22/09); 75 FR 71069-71070, 11/22/10). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on January 3, 2012.

FTZ 100 was approved by the Board on May 1, 1984 (Board Order 249, 49 FR 19688, 5/9/1984) and expanded on July 7, 1988 (Board Order 388, 53 FR 27184, 7/19/1988) and on March 12, 1999 (Board Order 1027, 64 FR 14212, 3/24/1999).

The current zone project includes the following sites: Site 1 (1005 acres)—within the Dayton International Airport Complex, Vandalia, Montgomery County; Site 2 (39 acres)—Metro West, 2300 McCall Street, Dayton; Site 3 (6 acres)—Lewis & Michael, 1827 Woodman Drive, Dayton; Site 4 (5 acres)—Shoup Mill Farms Industrial Park, 4966 Riverton Drive, Dayton; Site 5 (117 acres)—South Tech Business Park, Interstate 75 and Miamisburg-Springboro Road, Springboro, Montgomery County; and Site 6 (3 acres)—Gosiger Inc., 187 McDonough, Dayton, Montgomery County.

The grantee's proposed service area under the ASF would be Auglaize, Darke, Fayette, Greene, Mercer, Miami, Montgomery, Preble and Shelby Counties, Ohio, as described in the application. If approved, the grantee would be able to serve sites throughout the service area based on companies' needs for FTZ designation. The proposed service area is within and adjacent to the Dayton Customs and Border Protection port of entry.

The applicant is requesting authority to reorganize its existing zone project to include existing Site 1 as a “magnet” site. The applicant has requested that existing Sites 2-5 be removed and that the acreage of Site 1 be reduced to 385 acres. The ASF allows for the possible exemption of one magnet site from the “sunset” time limits that generally apply to sites under the ASF, and the applicant proposes that Site 1 be so exempted. The applicant is also requesting that existing Site 6 be included as a “usage-driven” site. Because the ASF only pertains to establishing or reorganizing a general-purpose zone, the application would have no impact on FTZ 100's authorized subzones.

In accordance with the Board's regulations, Elizabeth Whiteman of the FTZ Staff is designated examiner to evaluate and analyze the facts and information presented in the application and case record and to report findings and recommendations to the Board.

Public comment is invited from interested parties. Submissions (original and 3 copies) shall be addressed to the Board's Executive Secretary at the address below. The closing period for their receipt is March 9, 2012. Rebuttal comments in response to material submitted during the foregoing period may be submitted during the subsequent 15-day period to March 26, 2012.

A copy of the application will be available for public inspection at the Office of the Executive Secretary, Foreign-Trade Zones Board, Room 2111, U.S. Department of Commerce, 1401 Constitution Avenue NW., Washington, DC 20230-0002, and in the “Reading Room” section of the Board's Web site, which is accessible via www.trade.gov/ftz. For further information, contact Elizabeth Whiteman at Elizabeth.Whiteman@trade.gov or (202) 482-0473.

Dated: January 3, 2012.
Andrew McGilvray,
Executive Secretary.

[FR Doc. 2012-165 Filed 1-6-12; 8:45 a.m.]

BILLING CODE 3510-DS-P